DEPARTMENT OF COMMERCE

International Trade Administration

[A-560-802]

Certain Preserved Mushrooms from Indonesia: Final Results of Antidumping Duty New Shipper Review

AGENCY: Import Administration, International Trade Administration, Department of Commerce.

ACTION: Notice of final results of antidumping duty new shipper review.

SUMMARY: On April 4, 2003, the Department of Commerce published the preliminary results of the new shipper review of the antidumping duty order on certain preserved mushrooms from Indonesia. The review covers two manufacturers/exporters of the subject merchandise to the United States: PT Karya Kompos Bagas, and PT Eka Timur Raya. The period of review is February 1, 2002, through July 31, 2002.

No interested party submitted comments on the preliminary results. We have made no changes to the margin calculation. Therefore, the final results do not differ from the preliminary results. The final weighted-average dumping margins for the two manufacturers/exporters are listed below in the “Final Results of Review” section of this notice.

EFFECTIVE DATE: July 2, 2003.

FOR FURTHER INFORMATION CONTACT: Rebecca Trainor or Sophie Castro, AD/CVD Enforcement Group I, Office 2, Import Administration-Room B099, International Trade Administration, U.S. Department of Commerce, 14th Street and Constitution Avenue, NW., Washington, DC 20230; telephone: (202) 482-4007, or 482-0588, respectively.

SUPPLEMENTARY INFORMATION:

Background

The new shipper review covers two manufacturers/exporters of the subject merchandise to the United States: PT Karya Kompos Bagas (KKB), and PT Eka Timur Raya (Etira).

On April 4, 2003, the Department of Commerce published in the Federal Register the preliminary results of the new shipper review of the antidumping duty order on certain preserved mushrooms from Indonesia (68 FR 16469) (Preliminary Results).

We invited interested parties to comment on the preliminary results of the review, however no party submitted comments. The Department has conducted this new shipper review in accordance with section 751(a)(2)(B) of the Tariff Act of 1930, as amended (“the Act”).

Scope of the Order

The products covered by this order are certain preserved mushrooms, whether imported whole, sliced, diced, or as stems and pieces. The preserved mushrooms covered under this order are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms'; (3) dried mushrooms; (4) frozen mushrooms; and (5) “marinated,” “acidified” or “pickled” mushrooms, which are prepared or preserved by means of vinegar or acetic acid, but may contain oil or other additives.

The merchandise subject to this order is currently classifiable under subheadings 2003.10.0127, 2003.10.0131, 2003.10.0137, 2003.10.0143, 2003.10.0147, 2003.10.0153, and 0711.51.0000 of the Harmonized Tariff Schedule of the United States ¹ (HTSUS). Although the HTSUS subheadings are provided for convenience and customs purposes, the written description of the scope of this order is dispositive.

¹ Prior to January 1, 2002, the HTS codes were as follows: 2003.10.0027, 2003.10.0031, 2003.10.0037, 2003.10.0043, 2003.10.0047, 2003.10.0053, and 0711.90.4000

Final Results of the Review

As a result of our new shipper review, we determine that the following weighted-average margin percentages apply for the period February 1, 2002, though July 31, 2002:

Manufacturer/Exporter | Margin (percent)
PT Karya Kompos Bagas | 0.00
PT Eka Timur Raya | 0.00

Assessment

The Department shall determine, and the U.S. Bureau of Customs and Border Protection (“BCBP”) shall assess, antidumping duties on all appropriate entries. We will issue assessment instructions directly to BCBP within 15 days of publication of these final results of review. For assessment purposes, we do not have the actual entered values for all sales made by Etira. Accordingly, we have calculated importer-specific assessment rates by aggregating any dumping margins calculated for all of Etira's U.S. sales examined and dividing the respective amount by the total quantity of the sales examined. To determine whether the duty assessment rates are de minimis (i.e., less than 0.50 percent), in accordance with the requirement set forth in 19 CFR 351.106(c)(2), we have calculated importer-specific ad valorem ratios based on export prices. With respect to KKB, we have calculated importer-specific assessment rates for the subject merchandise by aggregating any dumping margins calculated for the examined sales and dividing this amount by the total entered value of the sales examined.

Cash Deposit Requirements

Bonding will no longer be permitted to fulfill security requirements for shipments from certain preserved mushrooms from Indonesia entered, or withdrawn from warehouse, for consumption on or after the publication date of the final results of the new shipper review. Furthermore, the following cash deposit requirements will be effective for all shipments of the subject merchandise entered, or withdrawn from warehouse, for consumption on or after the publication date of these final results of review, as provided by section 751(2)(1) and 751(a)(2)(B) of the Act: (1) For subject merchandise produced and exported by Etira or by KKB, no cash deposit will be required; (2) for subject merchandise exported by Etira or KKB but not produced by them, the cash deposit rate will be 11.26 percent, the “All Others” rate made effective by the less-than-fair-value investigation. These requirements shall remain in effect until publication of the final results of the next administrative review.

Notification to Importers

This notice serves as the only reminder to parties subject to the administrative protective order (APO) of their responsibility concerning the disposition of proprietary information disclosed under APO in accordance with 19 CFR 351.305(a)(3). Timely written notification of return/destruction of APO material or conversion to judicial protective order is hereby requested. Failure to comply with the regulation and the terms of an APO is a sanctionable violation.

This new shipper review and notice are published in accordance with sections 751(a)(2)(B) of the Act and 19 CFR 351.214.

Dated: June 25, 2003.
Joseph Spetrini,
Acting Assistant Secretary for Import Administration.

[FR Doc. 03-16666 Filed 7-1-03; 8:45 am]

BILLING CODE 3510-DS-P